DEPARTMENT OF DEFENSE

Defense Acquisition Regulations System

Suspension of the Price Evaluation Adjustment for Small Disadvantaged Businesses

AGENCY: Defense Acquisition Regulations System, Department of Defense (DoD).

ACTION: Notice of 1-year suspension of the price evaluation adjustment for small disadvantaged businesses.

SUMMARY: The Director of Defense Procurement has suspended the use of the price evaluation adjustment, as required by 10 U.S.C. 2323(e)(3)(B), because DoD exceeded its 5 percent goal described in 10 U.S.C. 2323(a) in fiscal year 2008. The suspension will be in effect for 1 year and will be reevaluated in fiscal year 2009 based on the level of DoD contract awards established in 10 U.S.C. 2323(a).

DATES: Effective Date: March 13, 2009.

Applicability Date: This suspension applies to all solicitations issued during the period from March 13, 2009, to March 12, 2010.

FOR FURTHER INFORMATION CONTACT: Ms. Susan Pollack, Defense Procurement, OUSD(AT&L)/DPAP, 3015 Defense Pentagon, Washington, DC 20301-3015, telephone 703-697-8336; facsimile 703-614-1254.

SUPPLEMENTARY INFORMATION: Pursuant to the authority granted in 10 U.S.C. 2323(e), DoD has previously applied a 10 percent price evaluation adjustment for small disadvantaged businesses in certain acquisitions. This price evaluation adjustment is implemented in Subpart 19.11 of the Federal Acquisition Regulation. Section 801 of the Strom Thurmond National Defense Authorization Act for Fiscal Year 1999 (Pub. L. 105-261) amended 10 U.S.C. 2323(e)(3) to prohibit DoD from applying such a price evaluation adjustment for a 1-year period following a fiscal year in which DoD achieved the 5 percent goal for contract awards established in 10 U.S.C. 2323(a). Since, in fiscal year 2008, DoD exceeded this 5 percent goal, use of the price evaluation adjustment in DoD acquisitions must be suspended for a 1-year period, from March 13, 2009, to March 12, 2010.

Michele P. Peterson,
Editor, Defense Acquisition Regulations System.

[FR Doc. E9-3518 Filed 2-18-09; 8:45 am]

BILLING CODE 5001-08-P